COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products and services to be furnished by nonprofit agencies employing persons who are blind or have other severe disabilities.

Comments Must Be Received on or Before: June 1, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Blue & White Finishing Mops, 7920-00-NIB-0407 (Medium), 7920-00-NIB-0408 (Large)

NPA: New York City Industries for the Blind, Brooklyn, New York.

Contract Activity: Office Supplies & Paper Products Acquisition Center, New York, New York.

Services

Service Type/Location: Base Supply Center & Individual Equipment Element, Air Force Flight Test Center (AFFTC), Edwards AFB, California.

NPA: Industries for the Blind, Inc., Milwaukee, Wisconsin.

Contract Activity: 95th MSG/LGRQ, Edwards AFB, California.

Service Type/Location: Food Service, Michigan Army National Guard, Maneuver Training Center, Camp Grayling, Michigan.

NPA: G.W. Services of Northern Michigan, Inc., Traverse City, Michigan.

Contract Activity: U.S. Property and Fiscal Officer for Michigan, Lansing, Michigan.

Service Type/Location: Food Service, U.S. Property and Fiscal Officer, Wisconsin Military Academy, Fort McCoy, Wisconsin.

NPA: Challenge Unlimited, Inc., Alton, Illinois.

Contract Activity: U.S. Property and Fiscal Officer for Wisconsin, Camp Douglas, Wisconsin.

Service Type/Location: Grounds Maintenance, Douglas Recreation Center, Garrison, North Dakota.

NPA: MVW Services, Inc., Minot, North Dakota.

Contract Activity: U.S. Army Corps of Engineers—Omaha, Omaha, Nebraska.

Service Type/Location: Janitorial/Custodial, Abingdon Memorial USARC, Abingdon, Virginia.

NPA: Highlands Community Services Board, Bristol, Virginia.

Contract Activity: 99th Regional Support Command, Coraopolis, Pennsylvania.

Service Type/Location: Janitorial/Custodial, FAA Tower and Base Building, Bloomington-Normal Airport, Bloomington, Illinois.

NPA: Occupational Development Center, Bloomington, Illinois.

Contract Activity: Federal Aviation Administration, Des Plaines, Illinois.

Service Type/Location: Janitorial/Custodial, Naval & Marine Corps Reserve Center, Billings, Montana.

NPA: Community Option Resource Enterprises, Inc., Billings, Montana.

Contract Activity: Naval Facilities Engineering Command—Everett, Everett, Washington.

Service Type/Location: Janitorial/Custodial, U.S. Customs Service, Seattle, Washington.

NPA: Northwest Center for the Retarded, Seattle, Washington.

Contract Activity: U.S. Customs Service, Indianapolis, Indiana.

Service Type/Location: Janitorial/Custodial, Western Area Power Administration, Devils Lake Substation, Devils Lake, North Dakota.

NPA: Lake Region Corporation, Devils Lake, North Dakota.

Contract Activity: Western Area Power Administration, Bismarck, North Dakota.

Sheryl D. Kennerly,
Director, Information Management.

[FR Doc. 03-10924 Filed 5-1-03; 8:45 am]

BILLING CODE 6353-01-P